DEPARTMENT OF DEFENSE

Office of the Secretary; Submission for OMB Review; Comment Request

ACTION: Notice.

DATES: Consideration will be given to all comments received by April 3, 2002.

SUMMARY: The Department of Defense has submitted to OMB for clearance, the following proposal for collection of information under the provisions of the Paperwork Reduction Act (44 U.S.C. Chapter 35).

Title and OMB Number: Defense Security Security Customer Satisfaction Survey; OMB Number 0704—[To Be Determined].

Type of Request: New Collection.

Number of Respondents: 6,000.

Responses per Respondent: 1.

Annual Responses: 6,000.

Average Burden per Response: 25 minutes.

Annual Burden Hours: 2,500.

Needs and Uses: This information collection is necessary to obtain information to ascertain the level of satisfaction that private sector industrial users have with the products and services the Defense Security Service (DSS) provides. This survey is necessary to meet the requirements of the FY 2000-2003 Defense Management Council (DMC) Performance Contract. The DMC Performance Contract requires DSS to develop and administer customer satisfaction surveys for each of its three primary business areas: the Personnel Security Investigations Program (PSI), the Industrial Security Program (ISP), and the Security Education and Training Program. The survey will be administered on-line via the Internet.

Affected Public: Individuals or Households; Business or Other For-Profit.

Frequency: Biennially.

Respondents Obligation: Voluntary.

OMB Desk Officer: Ms. Jackie Zeiher.

Written comments and recommendations on the proposed information collection should be sent to Ms. Zeiher at the Office of Management and Budget, Desk Officer for DoD, Room 10236, New Executive Office Building, Washington, DC 30503.

DoD Clearance Officer: Mr. Robert Cushing.

Written requests for copies of the information collection proposal should be sent to Mr. Cushing, WHS/DIOR, 1215 Jefferson Davis Highway, Suite 1204, Arlington, VA 22202-4302.

Dated: February 25, 2002.
Patricia L. Toppings,
Alternate OSD Federal Register, Liaison Officer, Department of Defense.

[FR Doc. 02-4983 Filed 3-1-02; 8:45 am]

BILLING CODE 5001-08-M